DEPARTMENT OF JUSTICE

Notice of Lodging of Consent Decree Under the Comprehensive Environmental Response, Compensation, and Liability Act

Under 28 CFR 50.7, notice is hereby given that on April 10, 2003, a proposed Consent Decree in United States and State of Missouri v. Newton County, Missouri, Civil Action No. 3:03-cv-05038-RED was lodged with the United States District Court for the Western District of Missouri.

In this action the United States asserted a claim under section 107(a) of the Comprehensive Environmental Response, Compensation, and Liability Act (CERCLA), 42 U.S.C. 9607(a), for recovery of response costs incurred by the United States at the Newton County Superfund Site in Missouri. The State of Missouri also asserted a claim for recovery of response costs under section 107(a) of CERCLA. Defendant Newton County is a current owner of an approximately 30 acre parcel of property contaminated with mine waste near Granby, Missouri within the Site.

Under the terms of the proposed Consent Decree settling the claims asserted in the Complaint, Newton County will allow its parcel of property near Granby to be used for disposal of contaminated materials removed from other portions of the Site. The contaminated materials will be disposed of in a Repository approximately 10 acres in size. The County agrees to finance and perform all Operation and Maintenance activities for the Repository as specified in an appendix to the Decree. The Decree also requires the County to execute and record a restrictive covenant, running with the land, that will prohibit activities that might disturb the cap as well as construction of facilities for which the remedy would be insufficiently protective. In return for the commitments by Newton County, the United States and the State grant Newton County a covenant not to sue under sections 106 and 107(a) of CERCLA, 42 U.S.C. 9606 and 9607(a), and State law for response costs relating to the Newton County Mine Tailings Superfund Site.

The Department of Justice will receive for a period of 30 days from the date of this publication comments relating to the Consent Decree. Comments should be addressed to the Assistant Attorney General, Environment and Natural Resources Division, P.O. Box 7611, U.S. Department of Justice, Washington, DC 20044-7611, and should refer to United States and State of Missouri v. Newton County, Missouri, D.J. Ref. No. 90-11-2-07088.

The Consent Decree may be examined at the Office of the United States Attorney, Charles E. Whittaker Courthouse, 400 E. 9th Street, 5th Floor, Kansas City, Missouri 64106, and at U.S. EPA Region VII, 901 North Fifth Street, Kansas City, Kansas 66025. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.75 (25 cents per page reproduction cost) payable to the U.S. Treasury.

Robert Maher,
Assistant Chief, Environmental Enforcement Section, Environment and Natural Resources Division.

[FR Doc. 03-10082 Filed 4-23-03; 8:45 am]

BILLING CODE 4410-15-M